FEDERAL COMMUNICATIONS COMMISSION

Federal Advisory Committee, Diversity and Digital Empowerment

AGENCY: Federal Communications Commission.

ACTION: Notice of intent to renew the charter for the Advisory Committee on Diversity and Digital Empowerment.

SUMMARY: The Federal Communications Commission (FCC or Commission) hereby announces that that the charter of the Advisory Committee on Diversity and Digital Empowerment (hereinafter Committee) will be renewed for a two-year period pursuant to the Federal Advisory Committee Act (FACA) and following consultation with the Committee Management Secretariat, General Services Administration.

ADDRESSES: Federal Communications Commission, 445 12th Street SW, Washington, DC 20554.

FOR FURTHER INFORMATION CONTACT: Jamila Bess Johnson, Designated Federal Officer, Federal Communications Commission, Media Bureau, (202) 418-2608 or email: Jamila-Bess.Johnson@fcc.gov.

SUPPLEMENTARY INFORMATION: After consultation with the General Services Administration, the Commission intends to renew the charter on or before July 5, 2019, providing the Committee with authorization to operate for two years.

The purpose of the Committee is to make recommendations to the Commission on how to empower disadvantaged communities and accelerate the entry of small businesses, including those owned by women and minorities, into the media, digital news and information, and audio and video programming industries, including as owners, suppliers, and employees. It is also to provide recommendations to the Commission on how to ensure that disadvantaged communities are not denied the wide range of opportunities made possible by next-generation networks. This Committee is intended to provide an effective means for stakeholders with interests in these areas to exchange ideas and develop recommendations to the Commission on media ownership and procurement opportunities, empowering communities in order to spur educational, economic, and civic development, and consumer access to digital technologies.

Advisory Committee

The Committee will be organized under, and will operate in accordance with, the provisions of the Federal Advisory Committee Act (FACA) (5 U.S.C. App. 2). The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent, and accessible manner. The Committee shall terminate two (2) years from the filing date of its charter, or earlier upon the completion of its work as determined by the Chairman of the FCC, unless its charter is renewed prior to the termination date.

During the Committee's second term, it is anticipated that the Committee will meet in Washington, DC approximately two (2) times a year. The first meeting date and agenda topics will be described in a Public Notice issued and published in the Federal Register at least fifteen (15) days prior to the first meeting date. In addition, as needed, working groups or subcommittees (ad hoc or steering) will be established to facilitate the Committee's work between meetings of the full Committee. Meetings of the Committee will be fully accessible to individuals with disabilities.

Federal Communications Commission.
Katura Jackson,
Federal Register Liaison Officer.

[FR Doc. 2019-12374 Filed 6-11-19; 8:45 am]

BILLING CODE 6712-01-P